DEPARTMENT OF TRANSPORTATION

Office of the Secretary

Notice of Applications for Certificates of Public Convenience and Necessity and Foreign Air Carrier Permits Filed under Subpart B (Formerly Subpart Q) During the Week Ending September 4, 2010

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2010-0223.

Date Filed: September 3, 2010.

Due Date for Answers, Conforming Applications, or Motion to Modify Scope: September 24, 2010.

Description: Joint Application of ASTAR Air Cargo, Inc. (“ASTAR”) and ASTAR USA, LLC (“AUSA”) requesting the transfer from ASTAR to AUSA of ASTAR's certificates of public convenience and necessity authorizing ASTAR to engage in interstate and foreign all cargo scheduled air transportation.

Docket Number: DOT-OST-2010- 0225.

Date Filed: September 2, 2010.

Due Date for Answers, Conforming Applications, or Motion to Modify Scope: September 23, 2010.

Description: Joint Application of Atlantic Southeast Airlines, Inc. (“ASA”) and ExpressJet Airlines, Inc. (“ExpressJet”) (together, the “Joint Applicants”) requesting approval of the de facto transfer of ExpressJet's international route authority, consisting of U.S.-Mexico designations, to ASA. In addition, the Joint Applicants ask the Department to approve the eventual de jure transfer that will occur when ExpressJet and ASA merge as anticipated.

Renee V. Wright,
Program Manager, Docket Operations, Federal Register Liaison.

[FR Doc. 2010-23509 Filed 9-20-10; 8:45 am]

BILLING CODE 4910-9X-P